NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 8, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e)).

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Grain Inspection, Packers, and Stockyards Administration (N1-545-08-20, 2 items, 2 temporary items). Records relating to the policy and guidelines of the agency's Equal Employment Opportunity program, including records related to developing special emphasis programs.

2. Department of the Army, Agency-wide (N1-AU-10-68, 1 item, 1 temporary item). Master files of an electronic information system used in association with the Army Substance Abuse Program. Included are drug and alcohol abuse testing and treatment data, patient background information, progress reports, and counselor observations.

3. Department of the Army, Agency-wide (N1-AU-10-104, 1 item, 1 temporary item). Master files of an electronic information system used to automate the maintenance and logistics activities of the aircraft used in Army aviation units. Included are parts and work orders information, maintenance and logistics reports, inspection information, and aircraft and crew history reports.

4. Department of Commerce, Bureau of Economic Analysis (N1-375-10-2, 6 items, 3 temporary items). Records of the Communications Division including art work and background files for the Survey of Current Business, as well as media advisory files. Proposed for permanent retention are record copies of news releases and agency publications, including Survey of Current Business.

5. Department of Health and Human Services, Administration for Children and Families (N1-292-10-1, 1 item, 1 temporary item). Master files of an electronic information system used to track information regarding victims of human trafficking in order to issue certification and eligibility letters.

6. Department of Health and Human Services, Agency for Healthcare Research and Quality (N1-510-09-8, 1 item, 1 temporary item). Master files of an electronic information system used to track agency publications through the editorial process and capture bibliographic information for printed publications.

7. Department of Health and Human Services, Agency for Healthcare Research and Quality (N1-510-09-10, 1 item, 1 temporary item). Master files of an electronic information system used to disseminate information about resources relating to the adoption of health information technology.

8. Department of Homeland Security, Federal Emergency Management Agency (N1-311-10-2, 1 item, 1 temporary item). Informal legal opinions that do not contain significant opinions, analysis, conclusions, advice, or interpretations and do not pertain to significant policy-making or major activities.

9. Department of Homeland Security, U.S. Citizenship and Immigration Services (N1-566-10-3, 3 items, 3 temporary items). Electronic database and paper forms used for tracking aliens' changes of address.

10. Department of Homeland Security, U.S. Coast Guard (N1-26-08-5, 7 items, 4 temporary items). Merchant Mariner personnel files from 1968 to the present, licensing files from 1968 to the present, and master files of an electronic information system containing licensing records and personnel information. Proposed for permanent retention are paper and microfilm copies of personnel jackets from 1919 to 1967, paper and microform copies of licensing files from 1897 to 1967, and officer licensing files index cards from 1947 to 1981.

11. Department of Homeland Security, U.S. Immigration and Customs Enforcement (N1-567-09-07, 1 item, 1 temporary item). Master files of an electronic information system containing immigration case documentation and attorneys' notes.

12. Department of Homeland Security, U.S. Immigration and Customs Enforcement (N1-567-10-15, 2 items, 2 temporary items). Master files of an electronic information system containing imaged copies of electronic data seized during an investigation, associated case information, and reports created by computer forensics agents.

13. Department of Homeland Security, U.S. Immigration and Customs Enforcement (N1-567-10-16, 4 items, 4 temporary items). Master files of an electronic information system containing imaged copies of electronic storage devices seized during an investigation. Also included are printouts of search results and individual documents.

14. Department of Homeland Security, U.S. Secret Service (N1-87-10-4, 2 items, 2 temporary items). Master files of an electronic information system used to report and research counter surveillance incident source data.

15. Department of Homeland Security, U.S. Secret Service (N1-87-10-5, 3 items, 2 temporary items). Electronic data relating to persons of interest for possible criminal activity that is of a routine nature. Proposed for permanent retention is electronic data relating to persons of interest when the data relates to unique and significant intelligence-related matters.

16. Department of Homeland Security, U.S. Secret Service (N1-87-10-6, 1 item, 1 temporary item). Non-investigative case files that track the seizure and forfeiture of property.

17. Department of the Interior, Office of the Secretary (N1-48-08-14, 1 item, 1 temporary item). Master files of an electronic information system used to track work orders, expenses, and other information relating to equipment and buildings.

18. Department of Justice, Bureau of Prisons (N1-129-09-3, 3 items, 2 temporary items). Master files of an electronic information system used to notify staff in emergency situations and provide reference copies of emergency procedures. Proposed for permanent retention are emergency operations directives and planning reports.

19. Department of Justice, Executive Office for United States Attorneys (N1-118-10-4, 1 item, 1 temporary item). Master files of an electronic information system used to submit and evaluate incident reports.

20. Department of Justice, Federal Bureau of Investigation (N1-65-10-9, 5 items, 4 temporary items). Training records of the Laboratory Division Evidence Response Team. Proposed for permanent retention are crime scene files. Mission, goals, objectives, and program review files were previously approved as permanent.

21. Department of Justice, Federal Bureau of Investigation (N1-65-10-31, 4 items, 4 temporary items). Master files, outputs, audit logs, and administrative records of an electronic information system used to access intelligence and investigative data.

22. Department of Transportation, Federal Highway Administration (N1-406-09-25, 11 items, 11 temporary items). Highway safety program records of the Federal-Aid Divisions (field offices) including pedestrian safety files; correspondence; highway safety improvement and safety commission files; records documenting state compliance with 23 U.S.C. 154, 159, 163, and 164; safe school route, railroad crossing, and rural road program files; and strategic highway safety program files.

23. Department of the Treasury, Internal Revenue Service (N1-58-10-7, 3 items, 3 temporary items). Master files, outputs, and system documentation of an electronic information system used to research tax return, enforcement, and compliance data.

24. Court Services and Offender Supervision Agency, Re-Entry and Sanction Center (N1-562-10-1, 1 item, 1 temporary item). Resident files for offenders sentenced to life parole terms, including assessments, education records, financial transactions, and medical, criminal, and employment history.

Dated: October 1, 2010.
Sharon Thibodeau,
Deputy Assistant Archivist for Records Services—Washington, DC.

[FR Doc. 2010-25408 Filed 10-6-10; 8:45 am]

BILLING CODE 7515-01-P